FEDERAL COMMUNICATIONS COMMISSION

47 CFR Part 90

[WC Docket No. 10-90; Report No. 2987]

Petition for Reconsideration of Action in Rulemaking Proceeding

AGENCY: Federal Communications Commission.

ACTION: Petition for reconsideration.

SUMMARY: In this document, a Petition for Reconsideration (Petition) has been filed in the Commission's Rulemaking proceeding by Elizabeth Bowles, President, on behalf of the Wireless Internet Service Providers Association.

DATES: Oppositions to the Petition must be filed on or before August 26, 2013. Replies to an opposition must be filed on or before September 3, 2013.

ADDRESSES: Federal Communications Commission, 445 12th Street SW., Washington, DC 20554.

FOR FURTHER INFORMATION CONTACT: Ryan Yates, Wireline Competition Bureau (202) 418-7400 (phone) or (202) 418-0484 (TTY).

SUPPLEMENTARY INFORMATION: This is a summary of Commission's document, Report No. 2987, released July 30, 2013. The full text of document Report No. 2987 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Connect America Fund, WC Docket No. 10-90, Report and Order, FCC 13-73, published at 78 FR 38227, June 26, 2013 and published pursuant to 47 CFR 1.429(e). See also § 1.4(b)(1) of the Commission's rules.

Number of Petitions Filed: 1.

Federal Communications Commission.
Marlene H. Dortch,
Secretary, Office of the Secretary, Office of Managing Director.

[FR Doc. 2013-19234 Filed 8-8-13; 8:45 am]

BILLING CODE 6712-01-P